DEPARTMENT OF TREASURY

Internal Revenue Service

Appointment of Members of the Legal Division to the Performance Review Board, Internal Revenue Service

Under the authority granted to me as Deputy Chief Counsel (Operations) of the Internal Revenue Service by the General Counsel of the Department of the Treasury by General Counsel Directive 15, pursuant to the Civil Service Reform Act, I have appointed the following persons to the Legal Division Performance Review Board, Internal Revenue Service Panel:

1. Drita Tonuzi, Deputy Chief Counsel (Operations)

2. Robin Greenhouse, Division Counsel (Large Business & International)

3. Helen M. Hubbard, Associate Chief Counsel (Financial Institutions and Products)

4. Mark L. Hulse, Division Counsel (Tax Exempt and Government Entities, DC)

5. Rachel Levy, Associate Chief Counsel (Employee Benefits, Exempt Organizations, and Employment Taxes)

6. Thomas J. Travers, Associate Chief Counsel (Finance and Management)

This publication is required by 5 U.S.C. 4314(c)(4).

William M. Paul,
Principal Deputy Chief Counsel/Deputy Chief Counsel (Technical), Internal Revenue Service.

[FR Doc. 2022-21531 Filed 10-4-22; 8:45 am]

BILLING CODE 4830-01-P